NATIONAL AERONAUTICS AND SPACE ADMINISTRATION

[Notice: (16-003)]

NASA Advisory Council; Science Committee; Ad Hoc Task Force on Big Data; Meeting

AGENCY: National Aeronautics and Space Administration.

ACTION: Notice of meeting.

SUMMARY: In accordance with the Federal Advisory Committee Act, Public Law 92-463, as amended, the National Aeronautics and Space Administration (NASA) announces a meeting of the Ad Hoc Task Force on Big Data. This task force reports to the NASA Advisory Council's Science Committee. The meeting will be held for the purpose of soliciting and discussing, from the scientific community and other persons, scientific and technical information relevant to big data.

DATES Tuesday, February 16, 2016, 8:00 a.m. to 5:00 p.m., Local Time.

ADDRESS: NASA Headquarters, Glennan Conference Center, Room 1Q39, 300 E Street SW., Washington, DC 20546.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. You must use a touch tone phone to participate in this meeting. Any interested person may call the USA toll free conference call number 1-800-988-9663, passcode 4718658, to participate in this meeting by telephone. A toll number also is available, 1-517-308-9427 passcode 4718658. The WebEx link is https://nasa.webex.com/; the meeting number is 999 765 122 and the password is BigD@T@16. The agenda for the meeting includes the following topics:

—NASA's science data cyber-infrastructure

—Access to NASA science mission data repositories

—Big data best practices in government, academia and industry

—Federal big data initiatives

Attendees will be required to sign a register and comply with NASA Headquarters security requirements, including the presentation of a valid picture ID before receiving access to NASA Headquarters. Due to the Real ID Act, any attendees with drivers licenses issued from non-compliant states must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states are: American Samoa, Arizona, Louisiana, Maine, Minnesota, New York, Oklahoma and Washington. Foreign nationals attending this meeting will be required to provide a copy of their passport and visa in addition to providing the following information no less than 10 days prior to the meeting: Full name; gender; date/place of birth; citizenship; visa information (number, type, expiration date); passport information (number, expiration date, country); employer/affiliation information (name of institution, address, country, telephone); title/position of attendee; and home address to Ann Delo via email at ann.b.delo@nasa.gov or by fax at (202) 358-2779. U.S. citizens and Permanent Residents (green card holders) are requested to submit their name and affiliation no less than 3 working days prior to the meeting to Ann Delo. It is imperative that the meeting be held on this date to accommodate the scheduling priorities of the key participants.

Patricia D. Rausch,
Advisory Committee Management Officer, National Aeronautics and Space Administration.

[FR Doc. 2016-01514 Filed 1-26-16; 8:45 am]

BILLING CODE 7510-13-P